DEPARTMENT OF ENERGY

Federal Energy Regulatory Commission

[Docket No. ER01-3075-003]

Michigan Electric Transmission Company; Notice of Filing

December 26, 2001.

Take notice that on December 12, 2001, Michigan Electric Transmission Company (METC) tendered for filing the following tariff sheets as part of its FERC Electric Tariff, Original Volume No. 1 in compliance with the November 14, 2001 order issued in this proceeding. (The sheets make up the entirety of METC's pro forma Generator Interconnection Agreement, Tariff Sheets 125-168.)

Original Sheet Nos. 126A, 127A, 129A, 130A, 132A, 134A, 136A, 138, 141A, 143A, 146A, 150A, 152A, 154A, 155A and 159A, First Revised Sheet Nos. 125 through 135, 135A, 141, 142, 146 through 153, 153A, 155 through 166, Sub First Revised Sheet Nos. 139, 139A, 143 and 144, Second Revised Sheet Nos. 136 and 137, Second Sub Revised Sheet No. 137, Second Sub First Revised Sheet Nos. 140, 145, 154, 167 and 168, and Second Sub Original Sheet No. 145A.

The sheets are to become effective on September 19, 2001. Copies of the filing were served upon the Michigan Public Service Commission and upon those on the official service list in this proceeding.

Any person desiring to be heard or to protest such filing should file a motion to intervene or protest with the Federal Energy Regulatory Commission, 888 First Street, NE., Washington, DC 20426, in accordance with rules 211 and 214 of the Commission's rules of practice and procedure (18 CFR 385.211 and 385.214). All such motions and protests should be filed on or before the comment date. Protests will be considered by the Commission to determine the appropriate action to be taken, but will not serve to make protestants parties to the proceedings. Any person wishing to become a party must file a motion to intervene. Copies of this filing are on file with the Commission and are available for public inspection. This filing may also be viewed on the Commission's Web site at http://www.ferc.gov using the “RIMS” link, select “Docket#” and follow the instructions (call 202-208-2222 for assistance). Comments, protests and interventions may be filed electronically via the internet in lieu of paper. See, 18 CFR 385.2001(a)(1)(iii) and the instructions on the Commission's Web site under the “e-filing” link.

Comment Date: January 4, 2002.

Linwood A. Watson, Jr.,
Acting Secretary.

[FR Doc. 01-32182 Filed 12-31-01; 8:45 am]

BILLING CODE 6717-01-P